DEPARTMENT OF AGRICULTURE

Agricultural Marketing Service

7 CFR Parts 1000 and 1033

[Docket No. AO-166-A77; DA-08-06]

Milk in the Mideast Marketing Areas; Notice of Hearing on Proposed Amendments to Tentative Marketing Agreement and Order

AGENCY: Agricultural Marketing Service, USDA.

ACTION: Notice of public hearing on proposed rulemaking.

SUMMARY: A public hearing is being held to consider and take evidence on a proposal to temporarily adjust certain Class I differentials in the Mideast milk marketing order.

DATES: The hearing will convene at 9 a.m., on Tuesday, August 19, 2008.

ADDRESSES: The hearing will be held at the Westin Cincinnati Hotel—21 E 5th Street, Cincinnati, Ohio 45202, phone (513) 621-7700.

FOR FURTHER INFORMATION CONTACT: Erin C. Taylor, Marketing Specialist, Order Formulation and Enforcement, USDA/AMS/Dairy Programs, Stop 0231—Room 2963, 1400 Independence Avenue, SW., Washington, DC 20250-0231, (202) 720-2357, e-mail-address: erin.taylor@usda.gov.

Persons requiring a sign language interpreter or other special accommodations should contact Paul Huber, Assistant Market Administrator, at (330) 225-4758; e-mail: phuber@fmmaclev.com before the hearing begins.

SUPPLEMENTARY INFORMATION: This administrative action is governed by the provisions of sections 556 and 557 of Title 5 of the United States Code and, therefore, is excluded from the requirements of Executive Order 12866.

Notice is hereby given of a public hearing to be held at the Westin Cincinnati Hotel, Cincinnati, Ohio, beginning at 9 a.m. on Tuesday, August 19, 2008, with respect to a proposed amendment to the tentative marketing agreement and to the order regulating the handling of milk in the Mideast marketing area.

The hearing is called pursuant to the provisions of the Agricultural Marketing Agreement Act of 1937, as amended (7 U.S.C. 601-674) (Act), and the applicable rules of practice and procedure governing the formulation of marketing agreements and marketing orders (7 CFR Part 900).

Land O'Lakes, Inc., Michigan Milk Producers Association, Inc., Foremost Farms USA Cooperative, Inc., Dairylea Cooperative Inc., National Farmers Organization Inc., and Dairy Farmers of America, Inc. have jointly submitted a proposal that seeks to temporarily increase the Class I differentials in the southern tier of the Mideast milk marketing order. In addition to this proposed amendment to the order, AMS proposes to make any such changes as may be necessary to the order and its administrative rules and regulations to conform to any amendment that may result from the hearing.

The purpose of the hearing is to receive evidence with respect to the economic and marketing conditions which relate to the proposed amendments, hereinafter set forth, and any appropriate modifications thereof, to the tentative marketing agreement and to the order.

Evidence also will be taken to determine whether emergency marketing conditions exist that would warrant omission of a recommended decision under the rules of practice and procedure (7 CFR 900.12(d)) with respect to any proposed amendments.

Actions under the Federal milk order program are subject to the Regulatory Flexibility Act (5 U.S.C. 601-612) (RFA). The RFA seeks to ensure that, within the statutory authority of a program, the regulatory and information collection requirements are tailored to the size and nature of small businesses. For the purpose of the RFA, a dairy farm is a “small business” if it has an annual gross revenue of less than $750,000, and a dairy products manufacturer is a “small business” if it has fewer than 500 employees (13 CFR 121.201). Most parties subject to a milk order are considered as a small business. Accordingly, interested parties are invited to present evidence on the probable regulatory and informational impact of the hearing proposals on small businesses. Also, parties may suggest modifications of these proposals for the purpose of tailoring their applicability to small businesses.

The amendments to the rules proposed herein have been reviewed under Executive Order 12988, Civil Justice Reform. They are not intended to have a retroactive effect. If adopted, the proposed amendments would not preempt any state or local laws, regulations, or policies, unless they present an irreconcilable conflict with this rule.

The Agricultural Marketing Agreement Act provides that administrative proceedings must be exhausted before parties may file suit in court. Under section 8c(15)(A) of the Act, any handler subject to an order may request modification or exemption from such order by filing with the Department of Agriculture (Department) a petition stating that the order, any provision of the order, or any obligation imposed in connection with the order is not in accordance with the law. A handler is afforded the opportunity for a hearing on the petition. After a hearing, the Department would rule on the petition. The Act provides that the district court of the United States in any district in which the handler is an inhabitant, has its principal place of business, has jurisdiction in equity to review the Department's ruling on the petition, provided a bill in equity is filed not later than 20 days after the date of the entry of the ruling.

Interested parties who wish to introduce exhibits should provide the Presiding Officer at the hearing with (4) copies of such exhibits for the Official Record. Also, it would be helpful if additional copies are available for the use of other participants at the hearing.

The proposed amendments, as set forth below, have not received the approval of the Department.

List of Subjects in 7 CFR Parts 1000 and 1033

Milk marketing orders.

The authority citations for 7 CFR parts 1000 and 1033 read as follows:

Authority: 7 U.S.C. 601-674, and 7253.

Proposed by Land O'Lakes, Inc., Michigan Milk Producers Association, Inc., Foremost Farms USA Cooperative, Inc., Dairylea Cooperative Inc., National Farmers Organization Inc., and Dairy Farmers of America, Inc.

Proposal 1

This proposal would temporarily adjust the Class I pricing surface for the southern counties within the geographical marketing area of the Mideast milk marketing order. Specifically, this proposal, on a temporary basis, would modify section 1000.51 of the general provisions of Federal milk orders by including a “Class I price adjustment,” which would be added to the Class I price “mover,” and to the section 1000.52 Class I differential, to obtain the minimum Order Class I price. The proposed changes to the Class I prices for plant locations in the Mideast milk marketing area would range from an increase of $0.15 per cwt to an increase of $0.40 per cwt.

1. Amend § 1000.50 by revising paragraphs (b) and (c), to read as follows:

§ 1000.50 Class prices, component prices and advanced pricing factors.

* * * * *

(b) Class I skim milk price. The Class I skim milk price per hundredweight shall be the adjusted Class I differential specified in § 1000.52 plus the adjustment to Class I prices specified in § 1005.51(b), § 1006.51(b), § 1007.51(b) and § 1033.51(b) plus the higher of the advanced pricing factors computed in paragraphs (q)(1) or (2) of this section.

(c) Class I butterfat price. The Class I butterfat price per pound shall be the adjusted Class I differential specified in § 1000.52 divided by 100, plus the adjustments to Class I prices specified in § 1005.51(b), § 1006.51(b), § 1007.51(b) and § 1033.51(b) divided by 100, plus the advanced butterfat price computed in paragraph (q)(3) of this section.

* * * * *

2. Revise § 1033.51 to read as follows:

§ 1033.51 Class I differential, adjustments to class I prices and class I price.

(a) The Class I differential shall be the differential established for Cuyahoga County, Ohio, which is reported in § 1000.52. The Class I price shall be the price computed pursuant to § 1033.50 (a) for Cuyahoga County, Ohio.

(b) Adjustments to Class I prices. Class I prices shall be established pursuant to § 1000.50 (a), (b), and (c) using the following adjustments:

State | County/parrish | FIPS | Class I adjustment
IN | ADAMS | 18001 | 0.00
IN | ALLEN | 18003 | 0.00
IN | BARTHOLOMEW | 18005 | 0.20
IN | BENTON | 18007 | 0.00
IN | BLACKFORD | 18009 | 0.00
IN | BOONE | 18011 | 0.15
IN | BROWN | 18013 | 0.20
IN | CARROLL | 18015 | 0.00
IN | CASS | 18017 | 0.00
IN | CLAY | 18021 | 0.15
IN | CLINTON | 18023 | 0.00
IN | DE KALB | 18033 | 0.00
IN | DEARBORN | 18029 | 0.20
IN | DECATUR | 18031 | 0.20
IN | DELAWARE | 18035 | 0.15
IN | ELKHART | 18039 | 0.00
IN | FAYETTE | 18041 | 0.15
IN | FOUNTAIN | 18045 | 0.00
IN | FRANKLIN | 18047 | 0.15
IN | FULTON | 18049 | 0.00
IN | GRANT | 18053 | 0.00
IN | HAMILTON | 18057 | 0.15
IN | HANCOCK | 18059 | 0.15
IN | HENDRICKS | 18063 | 0.15
IN | HENRY | 18065 | 0.15
IN | HOWARD | 18067 | 0.00
IN | HUNTINGTON | 18069 | 0.00
IN | JACKSON | 18071 | 0.20
IN | JASPER | 18073 | 0.00
IN | JAY | 18075 | 0.00
IN | JEFFERSON | 18077 | 0.20
IN | JENNINGS | 18079 | 0.20
IN | JOHNSON | 18081 | 0.15
IN | KOSCIUSKO | 18085 | 0.00
IN | LA PORTE | 18091 | 0.00
IN | LAGRANGE | 18087 | 0.00
IN | LAKE | 18089 | 0.00
IN | LAWRENCE | 18093 | 0.20
IN | MADISON | 18095 | 0.15
IN | MARION | 18097 | 0.15
IN | MARSHALL | 18099 | 0.00
IN | MIAMI | 18103 | 0.00
IN | MONROE | 18105 | 0.20
IN | MONTGOMERY | 18107 | 0.15
IN | MORGAN | 18109 | 0.15
IN | NEWTON | 18111 | 0.00
IN | NOBLE | 18113 | 0.00
IN | OHIO | 18115 | 0.20
IN | OWEN | 18119 | 0.15
IN | PARKE | 18121 | 0.15
IN | PORTER | 18127 | 0.00
IN | PULASKI | 18131 | 0.00
IN | PUTNAM | 18133 | 0.15
IN | RANDOLPH | 18135 | 0.15
IN | RIPLEY | 18137 | 0.20
IN | RUSH | 18139 | 0.15
IN | SHELBY | 18145 | 0.15
IN | ST. JOSEPH | 18141 | 0.00
IN | STARKE | 18149 | 0.00
IN | STEUBEN | 18151 | 0.00
IN | SULLIVAN | 18153 | 0.00
IN | SWITZERLAND | 18155 | 0.20
IN | TIPPECANOE | 18157 | 0.00
IN | TIPTON | 18159 | 0.00
IN | UNION | 18161 | 0.15
IN | VERMILLION | 18165 | 0.15
IN | VIGO | 18167 | 0.15
IN | WABASH | 18169 | 0.00
IN | WARREN | 18171 | 0.00
IN | WAYNE | 18177 | 0.15
IN | WELLS | 18179 | 0.00
IN | WHITE | 18181 | 0.00
IN | WHITLEY | 18183 | 0.00
KY | BOONE | 21015 | 0.20
KY | BOYD | 21019 | 0.20
KY | BRACKEN | 21023 | 0.20
KY | CAMPBELL | 21037 | 0.20
KY | FLOYD | 21071 | 0.40
KY | GRANT | 21081 | 0.20
KY | GREENUP | 21089 | 0.20
KY | HARRISON | 21097 | 0.20
KY | JOHNSON | 21115 | 0.40
KY | KENTON | 21117 | 0.20
KY | LAWRENCE | 21127 | 0.20
KY | LEWIS | 21135 | 0.20
KY | MAGOFFIN | 21153 | 0.40
KY | MARION | 21155 | 0.00
KY | MARSHALL | 21157 | 0.00
KY | MARTIN | 21159 | 0.40
KY | MASON | 21161 | 0.20
KY | PENDLETON | 21191 | 0.20
KY | PIKE | 21195 | 0.20
KY | ROBERTSON | 21201 | 0.20
MI | ALCONA | 26001 | 0.00
MI | ALGER | 26003 | 0.00
MI | ALLEGAN | 26005 | 0.00
MI | ALPENA | 26007 | 0.00
MI | ANTRIM | 26009 | 0.00
MI | ARENAC | 26011 | 0.00
MI | BARAGA | 26013 | 0.00
MI | BARRY | 26015 | 0.00
MI | BAY | 26017 | 0.00
MI | BENZIE | 26019 | 0.00
MI | BERRIEN | 26021 | 0.00
MI | BRANCH | 26023 | 0.00
MI | CALHOUN | 26025 | 0.00
MI | CASS | 26027 | 0.00
MI | CHARLEVOIX | 26029 | 0.00
MI | CHEBOYGAN | 26031 | 0.00
MI | CHIPPEWA | 26033 | 0.00
MI | CLARE | 26035 | 0.00
MI | CLINTON | 26037 | 0.00
MI | CRAWFORD | 26039 | 0.00
MI | EATON | 26045 | 0.00
MI | EMMET | 26047 | 0.00
MI | GENESEE | 26049 | 0.00
MI | GLADWIN | 26051 | 0.00
MI | GRAND TRAVERSE | 26055 | 0.00
MI | GRATIOT | 26057 | 0.00
MI | HILLSDALE | 26059 | 0.00
MI | HOUGHTON | 26061 | 0.00
MI | HURON | 26063 | 0.00
MI | INGHAM | 26065 | 0.00
MI | IONIA | 26067 | 0.00
MI | IOSCO | 26069 | 0.00
MI | IRON | 26071 | 0.00
MI | ISABELLA | 26073 | 0.00
MI | JACKSON | 26075 | 0.00
MI | KALAMAZOO | 26077 | 0.00
MI | KALKASKA | 26079 | 0.00
MI | KENT | 26081 | 0.00
MI | KEWEENAW | 26083 | 0.00
MI | LAKE | 26085 | 0.00
MI | LAPEER | 26087 | 0.00
MI | LEELANAU | 26089 | 0.00
MI | LENAWEE | 26091 | 0.00
MI | LIVINGSTON | 26093 | 0.00
MI | LUCE | 26095 | 0.00
MI | MACKINAC | 26097 | 0.00
MI | MACOMB | 26099 | 0.00
MI | MANISTEE | 26101 | 0.00
MI | MARQUETTE | 26103 | 0.00
MI | MASON | 26105 | 0.00
MI | MECOSTA | 26107 | 0.00
MI | MIDLAND | 26111 | 0.00
MI | MISSAUKEE | 26113 | 0.00
MI | MONROE | 26115 | 0.00
MI | MONTCALM | 26117 | 0.00
MI | MONTMORENCY | 26119 | 0.00
MI | MUSKEGON | 26121 | 0.00
MI | NEWAYGO | 26123 | 0.00
MI | OAKLAND | 26125 | 0.00
MI | OCEANA | 26127 | 0.00
MI | OGEMAW | 26129 | 0.00
MI | OSCEOLA | 26133 | 0.00
MI | OSCODA | 26135 | 0.00
MI | OTSEGO | 26137 | 0.00
MI | OTTAWA | 26139 | 0.00
MI | PRESQUE ISLE | 26141 | 0.00
MI | ROSCOMMON | 26143 | 0.00
MI | SAGINAW | 26145 | 0.00
MI | SANILAC | 26151 | 0.00
MI | SCHOOLCRAFT | 26153 | 0.00
MI | SHIAWASSEE | 26155 | 0.00
MI | ST. CLAIR | 26147 | 0.00
MI | ST. JOSEPH | 26149 | 0.00
MI | TUSCOLA | 26157 | 0.00
MI | VAN BUREN | 26159 | 0.00
MI | WASHTENAW | 26161 | 0.00
MI | WAYNE | 26163 | 0.00
MI | WEXFORD | 26165 | 0.00
OH | ADAMS | 39001 | 0.20
OH | ALLEN | 39003 | 0.00
OH | ASHLAND | 39005 | 0.00
OH | ASHTABULA | 39007 | 0.00
OH | ATHENS | 39009 | 0.15
OH | AUGLAIZE | 39011 | 0.00
OH | BELMONT | 39013 | 0.00
OH | BROWN | 39015 | 0.20
OH | BUTLER | 39017 | 0.15
OH | CARROLL | 39019 | 0.00
OH | CHAMPAIGN | 39021 | 0.00
OH | CLARK | 39023 | 0.15
OH | CLERMONT | 39025 | 0.20
OH | CLINTON | 39027 | 0.15
OH | COLUMBIANA | 39029 | 0.00
OH | COSHOCTON | 39031 | 0.00
OH | CRAWFORD | 39033 | 0.00
OH | CUYAHOGA | 39035 | 0.00
OH | DARKE | 39037 | 0.15
OH | DEFIANCE | 39039 | 0.00
OH | DELAWARE | 39041 | 0.00
OH | FAIRFIELD | 39045 | 0.15
OH | FAYETTE | 39047 | 0.15
OH | FRANKLIN | 39049 | 0.15
OH | FULTON | 39051 | 0.00
OH | GALLIA | 39053 | 0.20
OH | GEAUGA | 39055 | 0.00
OH | GREENE | 39057 | 0.15
OH | GUERNSEY | 39059 | 0.15
OH | HAMILTON | 39061 | 0.20
OH | HANCOCK | 39063 | 0.00
OH | HARDIN | 39065 | 0.00
OH | HARRISON | 39067 | 0.00
OH | HENRY | 39069 | 0.00
OH | HIGHLAND | 39071 | 0.20
OH | HOCKING | 39073 | 0.15
OH | HOLMES | 39075 | 0.00
OH | JACKSON | 39079 | 0.20
OH | JEFFERSON | 39081 | 0.00
OH | KNOX | 39083 | 0.00
OH | LAKE | 39085 | 0.00
OH | LAWRENCE | 39087 | 0.20
OH | LICKING | 39089 | 0.15
OH | LOGAN | 39091 | 0.00
OH | LORAIN | 39093 | 0.00
OH | LUCAS | 39095 | 0.00
OH | MADISON | 39097 | 0.15
OH | MAHONING | 39099 | 0.00
OH | MARION | 39101 | 0.00
OH | MEDINA | 39103 | 0.00
OH | MEIGS | 39105 | 0.15
OH | MERCER | 39107 | 0.00
OH | MIAMI | 39109 | 0.15
OH | MONROE | 39111 | 0.15
OH | MONTGOMERY | 39113 | 0.15
OH | MORGAN | 39115 | 0.15
OH | MORROW | 39117 | 0.00
OH | MUSKINGUM | 39119 | 0.15
OH | NOBLE | 39121 | 0.15
OH | PAULDING | 39125 | 0.00
OH | PERRY | 39127 | 0.15
OH | PICKAWAY | 39129 | 0.15
OH | PIKE | 39131 | 0.20
OH | PORTAGE | 39133 | 0.00
OH | PREBLE | 39135 | 0.15
OH | PUTNAM | 39137 | 0.00
OH | RICHLAND | 39139 | 0.00
OH | ROSS | 39141 | 0.15
OH | SANDUSKY | 39143 | 0.00
OH | SCIOTO | 39145 | 0.20
OH | SENECA | 39147 | 0.00
OH | SHELBY | 39149 | 0.00
OH | STARK | 39151 | 0.00
OH | SUMMIT | 39153 | 0.00
OH | TRUMBULL | 39155 | 0.00
OH | TUSCARAWAS | 39157 | 0.00
OH | UNION | 39159 | 0.00
OH | VAN WERT | 39161 | 0.00
OH | VINTON | 39163 | 0.15
OH | WARREN | 39165 | 0.15
OH | WASHINGTON | 39167 | 0.15
OH | WAYNE | 39169 | 0.00
OH | WILLIAMS | 39171 | 0.00
OH | WOOD | 39173 | 0.00
OH | WYANDOT | 39175 | 0.00
PA | ALLEGHENY | 42003 | 0.00
PA | ARMSTRONG | 42005 | 0.00
PA | BEAVER | 42007 | 0.00
PA | BUTLER | 42019 | 0.00
PA | CLARION | 42031 | 0.00
PA | CRAWFORD | 42039 | 0.00
PA | ERIE | 42049 | 0.00
PA | FAYETTE | 42051 | 0.00
PA | GREENE | 42059 | 0.00
PA | LAWRENCE | 42073 | 0.00
PA | MERCER | 42085 | 0.00
PA | VENANGO | 42121 | 0.00
PA | WASHINGTON | 42125 | 0.00
PA | WESTMORELAND | 42129 | 0.00
WV | BARBOUR | 54001 | 0.00
WV | BOONE | 54005 | 0.40
WV | BROOKE | 54009 | 0.00
WV | CABELL | 54011 | 0.20
WV | CALHOUN | 54013 | 0.20
WV | DODDRIDGE | 54017 | 0.00
WV | FAYETTE | 54019 | 0.40
WV | GILMER | 54021 | 0.20
WV | HANCOCK | 54029 | 0.00
WV | HARRISON | 54033 | 0.00
WV | JACKSON | 54035 | 0.20
WV | KANAWHA | 54039 | 0.40
WV | LEWIS | 54041 | 0.00
WV | LINCOLN | 54043 | 0.40
WV | LOGAN | 54045 | 0.40
WV | MARION | 54049 | 0.00
WV | MARSHALL | 54051 | 0.00
WV | MASON | 54053 | 0.20
WV | MINGO | 54059 | 0.40
WV | MONONGALIA | 54061 | 0.00
WV | OHIO | 54069 | 0.00
WV | PLEASANTS | 54073 | 0.20
WV | PRESTON | 54077 | 0.00
WV | PUTNAM | 54079 | 0.20
WV | RALEIGH | 54081 | 0.40
WV | RANDOLPH | 54083 | 0.00
WV | RITCHIE | 54085 | 0.20
WV | ROANE | 54087 | 0.20
WV | TAYLOR | 54091 | 0.00
WV | TUCKER | 54093 | 0.00
WV | TYLER | 54095 | 0.00
WV | UPSHUR | 54097 | 0.00
WV | WAYNE | 54099 | 0.20
WV | WETZEL | 54103 | 0.00
WV | WIRT | 54105 | 0.20
WV | WOOD | 54107 | 0.20
WV | WYOMING | 54109 | 0.40

Proposed by Dairy Programs, Agricultural Marketing Service.

Proposal No. 2

For all Federal Milk Marketing Orders, make necessary changes to make the entire marketing agreements and the orders conform with any amendments thereto that may result from this hearing.

Copies of this notice of hearing and the orders may be procured from the Market Administrator of the Mideast marketing area, or from the Hearing Clerk, United States Department of Agriculture, STOP 9200—Room 1031, 1400 Independence Avenue, SW., Washington, DC 20250-9200, or may be inspected there.

Copies of the transcript of testimony taken at the hearing will not be available for distribution through the Hearing Clerk's Office. If you wish to purchase a copy, arrangements may be made with the reporter at the hearing.

From the time that a hearing notice is issued and until the issuance of a final decision in a proceeding, Department employees involved in the decision-making process are prohibited from discussing the merits of the hearing issues on an ex parte basis with any person having an interest in the proceeding. For this particular proceeding, the prohibition applies to employees in the following organizational units:

Office of the Secretary of Agriculture.

Office of the Administrator, Agricultural Marketing Service.

Office of the General Counsel.

Dairy Programs, Agricultural Marketing Service (Washington office) and the Offices of all Market Administrators.

Procedural matters are not subject to the above prohibition and may be discussed at any time.

Dated: July 21, 2008.
Lloyd C. Day,
Administrator, Agricultural Marketing Service.

[FR Doc. E8-16955 Filed 7-23-08; 8:45 am]

BILLING CODE 3410-02-P